DEPARTMENT OF ENERGY

Federal Energy Regulatory Commission

[Project No. 14327-006]

Pershing County Water Conservation District, Nevada; Notice of Application Accepted For Filing, Soliciting Comments, Motions To Intervene, and Protests

Take notice that the following hydroelectric application has been filed with the Commission and is available for public inspection:

a. Type of Proceeding: License Amendment.

b. Project No.: 14327-006.

c. Date Filed: August 18, 2017; supplemented on October 12, 2017 and December 18, 2017.

d. Licensee: Pershing County Water Conservation District, Nevada.

e. Name of Project: Humboldt River Hydropower Project.

f. Location: The project is located on the Humboldt River in Pershing County, Nevada.

g. Filed Pursuant to: Federal Power Act, 16 U.S.C. 791a-825r.

h. Licensee Contact: Mr. Bennie Hodges, Manager, Pershing County Water Conservation District, P.O. Box 218, Lovelock, NV 89419; telephone: (775) 273-2293; Email: pcwcd@irrigation.lovelock.nv.us.

i. FERC Contact: Mr. Ashish Desai, (202) 502-8370, Ashish.Desai@ferc.gov.

j. Deadline for filing comments, motions to intervene and protests is 30 days from the issuance date of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include the docket number P-14327-006.

k. Description of Proceeding: On August 18, 2017, and supplemented on October 12, 2017 and December 18, 2017, Pershing County Water Conservation District, Nevada (District) filed a request to amend its license to include the Rye Patch Dam and Reservoir as project facilities within the project boundary. The Rye Patch Dam and Reservoir was formerly owned and operated by the U.S. Bureau of Reclamation. The dam and reservoir were transferred to the District on August 18, 2016 pursuant to the Humboldt Project Conveyance Act, Title VIII of Public Law 107-282. With the transfer completed, Article 205 of the license requires the District to file an application to amend the license to include all transferred land and project facilities within the licensed project boundary.

l. This notice is available for review and reproduction at the Commission in the Public Reference Room, Room 2A, 888 First Street, NE, Washington, DC 20426. The filing may also be viewed on the Commission's website at http://www.ferc.gov/docs-filing/elibrary.asp. Enter the Docket number (P-14327-006) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: March 13, 2018.
Kimberly D. Bose,
Secretary.

[FR Doc. 2018-05497 Filed 3-16-18; 8:45 am]

BILLING CODE 6717-01-P